DEPARTMENT OF COMMERCE

National Oceanic and Atmospheric Administration

[I.D. 050106B]

Endangered Species; File No. 1506

AGENCY: National Marine Fisheries Service (NMFS), National Oceanic and Atmospheric Administration (NOAA), Commerce.

ACTION: Notice; issuance of permit modification.

SUMMARY: Notice is hereby given that Blair Witherington, Ph.D., Florida Fish and Wildlife Conservation Commission, Fish and Wildlife Research Institute, Melbourne Beach Field Laboratory, 9700 South A1A, Melbourne Beach, Florida 32951 has been issued a modification to scientific research Permit No. 1506.

ADDRESSES: The modification and related documents are available for review upon written request or by appointment in the following office(s):

Permits, Conservation and Education Division, Office of Protected Resources, NMFS, 1315 East-West Highway, Room 13705, Silver Spring, MD 20910; phone (301)713-2289; fax (301)427-2521; and

Southeast Region, NMFS, 263 13th Ave South, St. Petersburg, FL 33701; phone (727)824-5312; fax (727)824-5309.

FOR FURTHER INFORMATION CONTACT: Amy Hapeman or Patrick Opay, (301)713-2289.

SUPPLEMENTARY INFORMATION: On March 9, 2006, notice was published in the Federal Register (71 FR 12184) that a modification of Permit No. 1506, issued March 23, 2005 (70 FR 20530), had been requested by the above-named individual. The requested modification has been granted under the authority of the Endangered Species Act of 1973, as amended (ESA; 16 U.S.C. 1531 et seq.) and the regulations governing the taking, importing, and exporting of endangered and threatened species (50 CFR 222-226).

Permit No. 1506 currently authorizes the permit holder to study neonate and juvenile loggerhead (Caretta caretta), green (Chelonia mydas), Kemp's ridley (Lepidochelys kempii), hawksbill (Eretmochelys imbricata) and leatherback (Dermochelys coriacea) sea turtles in the waters of the Gulf of Mexico and the Atlantic Ocean off the coast of Florida to continue long-term studies. The purpose of the research is to identify developmental habitat and evaluate the extent of ingestion of marine debris. Dr. Witherington is currently authorized to annually capture up to 250 loggerhead, 10 green, 5 hawksbill, 2 Kemp's ridley, and 2 leatherback sea turtles by handheld dip nets. All turtles are measured and released. A subset of loggerhead turtles would be transported to a lab and examined with a veterinary high resolution magnetic resonance interferometry (MRI) or computerized tomography (CT) exam, held for 3-4 days and released to determine their level of anthropogenic debris ingestion.

The permit modification allows the permit holder to increase takes to collect up to 100 green, 50 Kemp's ridley, 50 hawksbill and 10 leatherback sea turtles annually. A subset of green sea turtles would be examined with MRI, held for 3-4 days and released to determine their level of anthropogenic debris ingestion. Annually, four of each species of green, hawksbill, and Kemp's ridley sea turtles would have transmitters attached to measure movements and dive patterns, would be recaptured after 24 hours to remove the transmitter, and released. The goal of the additional research will be to improve the quality of the data gathered and provide insight into juvenile sea turtle movements and dive patterns.

Issuance of this modification, as required by the ESA was based on a finding that such permit (1) Was applied for in good faith, (2) will not operate to the disadvantage of any endangered or threatened species, and (3) is consistent with the purposes and policies set forth in section 2 of the ESA.

Dated: May 24, 2006.
P. Michael Payne,
Chief, Permits, Conservation and Education Division, Office of Protected Resources, National Marine Fisheries Service.

[FR Doc. E6-8406 Filed 5-31-06; 8:45 am]

BILLING CODE 3510-22-S